DEPARTMENT OF DEFENSE

Office of the Secretary

Meeting of the Defense Department Advisory Committee on Women in the Services (DACOWITS)

AGENCY: Department of Defense.

ACTION: Notice.

SUMMARY: Pursuant to Section 10(a), Public Law 92-463, as amended, notice is hereby given of a forthcoming meeting of the Defense Department Advisory Committee on Women in the Services (DACOWITS). The purpose of the Committee meeting is to receive briefings and hear panels on women's roles in deployment, review 2009 topics, and develop protocols. The meeting is open to the public, subject to the availability of space.

DATES: March 23-24, 2009, 8:30 a.m.-5 p.m.

ADDRESSES: Double Tree Hotel Crystal City National Airport, 300 Army Navy Drive, Arlington, VA 22202.

FOR FURTHER INFORMATION CONTACT: MSgt Robert Bowling, USAF, DACOWITS, 4000 Defense Pentagon, Room 2C548A, Washington, DC 20301-4000. Robert.bowling@osd.mil; Telephone (703) 697-2122; Fax (703) 614-6233.

SUPPLEMENTARY INFORMATION:

Meeting Agenda

Monday, March 23, 2009 8:30 a.m.- 5 p.m.

—Welcome and announcements

—Women's roles in deployment panels

—Briefings

—Public Forum

Tuesday, March 24, 2009 8:30 a.m.- 5 p.m.

—Review research questions

—Develop Protocol questions

—Discuss 2009 topics and schedule

Interested persons may submit a written statement for consideration by the Defense Department Advisory Committee on Women in the Services. Individuals submitting a written statement must submit their statement to the Point of Contact listed above at the address detailed above NLT 5 p.m., Thursday, March 19, 2009. If a written statement is not received by Thursday, March 19, 2009, prior to the meeting, which is the subject of this notice, then it may not be provided to or considered by the Defense Department Advisory Committee on Women in the Services until its next open meeting. The Designated Federal Officer will review all timely submissions with the Defense Department Advisory Committee on Women in the Services Chairperson and ensure they are provided to the members of the Defense Department Advisory Committee on Women in the Services.

If members of the public are interested in making an oral statement, a written statement must be submitted as above. After reviewing the written comments, the Chairperson and the Designated Federal Officer will determine who of the requesting persons will be able to make an oral presentation of their issue during an open portion of this meeting or at a future meeting. Determination of who will be making an oral presentation will depend on time available and if the topics are relevant to the Committee's activities. Two minutes will be allotted to persons desiring to make an oral presentation. Oral presentations by members of the public will be permitted only on Monday, March 23, 2009 from 4:30 p.m. to 5 p.m. before the full Committee. Number of oral presentations to be made will depend on the number of requests received from members of the public.

February 27, 2009.
Patricia L. Toppings,
OSD Federal Register Liaison Officer, Department of Defense.

[FR Doc. E9-4775 Filed 3-5-09; 8:45 am]

BILLING CODE 5001-06-P